SMALL BUSINESS ADMINISTRATION

Request for Nominations; Investment Capital Advisory Committee

AGENCY: U.S. Small Business Administration (SBA).

ACTION: Solicitation of nominations.

SUMMARY: The SBA Office of Investment and Innovation is issuing this notice to solicit nominations of current or former small business owners, community leaders, officials from trade associations, investment institutions, and members of the investment community to be considered for appointment by the SBA Administrator as a member of the Investment Capital Advisory Committee (ICAC). The Committee serves as an independent source of advice, insights, and recommendations to SBA on matters broadly related to facilitating greater access and availability of patient investment capital for small business; promoting greater awareness of SBA investment and innovation division programs and services; cultivating greater public-private engagement, cooperation, and collaboration; developing and/or evolving SBA programs and services to address long-term capital access gaps faced by small businesses and the investment managers that seek to support them. Nominations of qualified candidates are being sought to fill vacancies on the ICAC. ICAC members are appointed by and serve at the pleasure of the SBA Administrator for terms of no longer than two years. ICAC members serve without compensation but will be reimbursed for authorized travel-related expenses at per diem rates established by GSA when asked to perform official duties as an ICAC member.

DATES: Nominations for membership on the ICAC will be accepted on a rolling basis. After initial committee member selection, membership will be filled as positions become available.

ADDRESSES: All nominations should be emailed to ICAC@sba.gov with the subject line: ICAC Nomination.

FOR FURTHER INFORMATION CONTACT: Nathaniel Putnam, Policy Analyst, Office of Investment and Innovation, (202) 714-1632, ICAC@sba.gov.

SUPPLEMENTARY INFORMATION:

The SBA is seeking nominations from members of the public.

Qualifications

The requirements for nominations to the ICAC include:

• Former or current small business owner;

• Community leader;

• Official from a trade association or investment institution;

• Member of the investment community.

Nomination Process

Nominees should send a letter of self-nomination or a letter of nomination from a peer, professional organization, society, or member of Congress. The letter should highlight accomplishments and experience working with small businesses in relevant subject matter areas relating to innovation and investment. Along with the Nominee Information Form and resume, nominees should include the following:

• Full name of nominee

• Occupation

• Physical address

• Telephone number

• Email address

Please email all nomination information to ICAC@sba.gov.

Authority: The Investment Capital Advisory Committee is a discretionary advisory committee created by the Administrator of the U.S. Small Business Administration pursuant to section 8(b)(13) of the Small Business Act (15 U.S.C. 637(b)). The ICAC is being established in accordance with the provisions of the Federal Advisory Committee Act, as amended, 5 U.S.C. app.

Dated: November 9, 2022.
Andrienne Johnson,
Committee Management Officer.

[FR Doc. 2022-24843 Filed 11-14-22; 8:45 am]

BILLING CODE P